DEPARTMENT OF THE INTERIOR

National Park Service

[NPS-WASO-NAGPRA-23073; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by June 2, 2017.

ADDRESSES: Dr. Jayne-Leigh Thomas, NAGPRA Director, Indiana University, NAGPRA Office, Student Building 318, 701 East Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Department of Anthropology at Indiana University, Bloomington, IN. The human remains were removed from multiple counties in the State of Louisiana.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Indiana University professional staff in consultation with representatives of the Caddo Nation of Oklahoma.

History and Description of the Remains

On an unknown date, human remains representing, at minimum, 5 individuals were removed from the Hogg Place site in the State of Louisiana, and donated to the Department of Anthropology at Indiana University. No known individuals were identified. No associated funerary objects are present. The Hogg Place site was a village with an associated cemetery that was culturally affiliated with the Caddo Nation of Oklahoma, based on material culture and mortuary practices.

On an unknown date, human remains representing, at minimum, 19 individuals were removed from the Allen Place site in Nachitoches County, LA, and donated to the Department of Anthropology at Indiana University. No known individuals were identified. The 7 associated funerary objects are 1 raccoon ulna, 1 piece of red ocher, 1 faunal bone, 1 deer metapodial, and 3 mammal bones. The Allen Place site was culturally affiliated with the Caddo Nation of Oklahoma. In addition, notes associated with the human remains and funerary objects indicate the collection is culturally affiliated with the Caddo Nation of Oklahoma.

On an unknown date, human remains representing, at minimum, 1 individual were removed from the Wilkinson Place site in Nachitoches County and donated to the Department of Anthropology at Indiana University. No known individuals were identified. No associated funerary objects are present. The Wilkinson Place site was culturally affiliated with the Caddo Nation of Oklahoma. In addition, notes associated with the collection indicate it is culturally affiliated with the Caddo Nation of Oklahoma.

Determinations Made by the Department of Anthropology at Indiana University

Officials of the Department of Anthropology at Indiana University have determined that:

• Pursuant to 25 U.S.C. 3001(9), the human remains described in this notice represent the physical remains of 25 individuals of Native American ancestry.

• Pursuant to 25 U.S.C. 3001(3)(A), the 7 objects described in this notice are reasonably believed to have been placed with or near individual human remains at the time of death or later as part of the death rite or ceremony.

• Pursuant to 25 U.S.C. 3001(2), there is a relationship of shared group identity that can be reasonably traced between the Native American human remains and the Caddo Nation of Oklahoma.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 East Kirkwood Avenue, Bloomington, IN 47405, telephone (812) 856-5315, email thomajay@indiana.edu, by June 2, 2017. After that date, if no additional requestors have come forward, transfer of control of the human remains and associated funerary objects to the Caddo Nation of Oklahoma may proceed.

The Department of Anthropology at Indiana University is responsible for notifying the Caddo Nation of Oklahoma that this notice has been published.

Dated: March 9, 2017.
Melanie O'Brien,
Manager, National NAGPRA Program.

[FR Doc. 2017-08865 Filed 5-2-17; 8:45 am]

BILLING CODE 4310-70-P